FEDERAL HOUSING FINANCE BOARD

[No. 2000-N-9]

Notice of Receipt of Petition for Case-by-Case Determination

AGENCY: Federal Housing Finance Board.

ACTION: Notice.

SUMMARY: Notice is hereby given that the Federal Housing Finance Board (Finance Board) has received a Petition from the Federal Home Loan Bank (Bank) of Dallas for Finance Board approval of an application for membership in the Dallas Bank by Washington Mutual Bank, FA (WMBFA), currently a member of the San Francisco Bank, upon completion of the merger of Bank United into WMBFA, under section 4(b) of the Federal Home Loan Bank Act (Bank Act) and § 925.18(a)(2) of the Finance Board's membership regulations. The effect of such an approval would be to allow WMBFA to be a member of both the San Francisco and the Dallas Banks.

ADDRESSES: Send Requests to Intervene to: Elaine L. Baker, Secretary to the Board, at the Federal Housing Finance Board, 1777 F Street, NW., Washington, DC 20006. Copies of non-confidential portions of the Petition and of non-confidential portions of Requests to Intervene will be available for inspection at this address.

FOR FURTHER INFORMATION CONTACT: James L. Bothwell, Managing Director and Chief Economist, (202) 408-2821; Scott L. Smith, Acting Director, Office of Policy, Research and Analysis, (202) 408-2991; Deborah F. Silberman, General Counsel, (202) 408-2570. Staff also can be reached by regular mail at the Federal Housing Finance Board, 1777 F Street, NW., Washington, DC 20006.

SUPPLEMENTARY INFORMATION: Section 907.8(a) of the Finance Board's regulations provides that a Bank may file a Petition for Case-by-Case Determination with the Finance Board concerning any matter that may require a determination, finding or approval under the Bank Act or Finance Board regulations by the Board of Directors, and for which no controlling statutory, regulatory or other Finance Board standard previously has been established. See 12 CFR 907.8(a). Section 907.12(a) of the Finance Board's regulations requires the Finance Board to promptly publish a notice of receipt of a Petition for Case-by-Case Determination, including a brief summary of the issue(s) involved, in the Federal Register. Id. § 907.12(a).

The Dallas Bank has filed a Petition for Case-by-Case Determination, dated December 8, 2000, and received by the Finance Board on December 11, 2000 (Petition), requesting that the Finance Board approve the membership of WMBFA in the Dallas Bank upon completion of the merger of Bank United into WMBFA, under section 4(b) of the Bank Act and § 925.18(a)(2) of the Finance Board's regulations, thereby allowing WMBFA to be a member of both the San Francisco and Dallas Banks. See 12 U.S.C. 1424(b); 12 CFR 925.18(a)(2). The Finance Board is hereby providing notice of receipt of such Petition, pursuant to 12 CFR 907.12(a).

WMBFA, a member of the San Francisco Bank, is awaiting approval from its primary bank regulators of its proposed acquisition of Bank United, a Dallas Bank member, which would be merged into WMBFA and its charter cancelled. Upon consummation of the merger, WMBFA would seek to retain its current membership in the San Francisco Bank and to gain membership in the Dallas Bank, as if it had maintained the Bank United charter. To that end, on November 24, 2000, WMBFA submitted a membership application to the Dallas Bank. According to the Petition, on November 29, 2000, the Dallas Bank found that WMBFA satisfied the eligibility requirements for membership set forth in section 4 of the Bank Act and part 925 of the Finance Board's regulations, see 12 U.S.C. 1424, 12 CFR part 925, and approved WMBFA's membership in the Dallas Bank contingent upon approval by the Finance Board of WMFBA's membership in the Dallas Bank under section 4(b) of the Bank Act and § 925.18(a)(2) of the Finance Board's regulations. 12 U.S.C. 1424(b); 12 CFR 925.18(a)(2).

Section 4(b) of the Bank Act states that:

An institution eligible to become a member under this section may become a member only of, or secure advances from, the [Bank] of the district in which is located the institution's principal place of business, or of the [B]ank of a district adjoining such district, if demanded by convenience and then only with the approval of the [Finance] Board.

12 U.S.C. 1424(b); see 12 CFR 925.18(a)(2).

The Petition supplies a legal opinion that the above-referenced statutory and implementing regulatory language may be interpreted to allow a Bank to be a member of both the Bank in the district where its principal place of business is located, and the Bank in the district adjoining such district and, therefore, that WMBFA may be a member simultaneously of the San Francisco and Dallas Banks.¹ The Petition further argues that, as a factual matter, WMBFA's membership in the Dallas Bank meets the “demanded by convenience” standard set forth in section 4(b) of the Bank Act and § 925.18(a)(2) of the Finance Board's regulations. Accordingly, the Petition requests Finance Board approval of WMBFA's membership in the Dallas Bank under section 4(b) and § 925.18(a)(2), thereby allowing WMBFA to be a member of both the San Francisco and Dallas Banks.

¹ The San Francisco and Dallas Bank districts are adjoining districts.

The Petition raises numerous fundamental legal, political and policy issues of first impression that are critical to the structure and function of the Bank System, such as the continued consolidation of the financial institutions industry and the effect of that consolidation on the economics, regional structure and cooperative nature of the Bank System, and the impact of all of those changes on the Banks as they implement a new capital structure.

Pursuant to the Finance Board's procedures under 12 CFR part 907, any member, Bank, or the Office of Finance may file a Request to Intervene in the consideration of the Petition in accordance with 12 CFR 907.11 if it believes its rights may be affected by the issues raised by the Petition. Any Request to Intervene must be in writing and must be filed with the Secretary to the Finance Board within 45 days from the date the Petition was filed. Requests to Intervene may include a Request to Appear before the Board of Directors in any meeting conducted under the Finance Board's procedures to consider the Petition.

Dated: December 20, 2000.
William C. Apgar,
HUD Secretary's Designee to the Finance Board

[FR Doc. 00-32916 Filed 12-26-00; 8:45 am]

BILLING CODE 6725-01-P